DEPARTMENT OF AGRICULTURE

Animal and Plant Health Inspection Service

[Docket No. APHIS-2015-0006]

Notice of Affirmation of Revision of a Treatment Schedule for Hot Water Treatment of Mangoes

AGENCY: Animal and Plant Health Inspection Service, USDA.

ACTION: Notice.

SUMMARY: We are affirming our earlier determination that it was necessary to immediately amend hot water treatment schedule T102-a in the Plant Protection and Quarantine Treatment Manual to extend the applicability of the treatment to additional mango commodities. In a previous notice, we made available to the public for review and comment a treatment evaluation document that described the revised treatment schedule and explained why we have determined that it is effective at neutralizing certain target pests.

DATES: Effective August 4, 2015, we are affirming the addition to the Plant Protection and Quarantine Treatment Manual of the revised treatment described in the notice published at 80 FR 22702-22703 on April 23, 2015.

FOR FURTHER INFORMATION CONTACT: Dr. Inder P.S. Gadh, Senior Risk Manager—Treatments, PPQ, APHIS, 4700 River Road Unit 133, Riverdale, MD 20737; (301) 851-2018.

SUPPLEMENTARY INFORMATION: The regulations in 7 CFR chapter III are intended, among other things, to prevent the introduction or dissemination of plant pests and noxious weeds into or within the United States. Under the regulations, certain plants, fruits, vegetables, and other articles must be treated before they may be moved into the United States or interstate. The phytosanitary treatments regulations contained in 7 CFR part 305 (referred to below as the regulations) set out standards for treatments required in 7 CFR parts 301, 318, and 319 for fruits, vegetables, and other articles.

In § 305.2, paragraph (b) states that approved treatment schedules are set out in the Plant Protection and Quarantine (PPQ) Treatment Manual.¹ Section 305.3 sets out a process for adding, revising, or removing treatment schedules in the PPQ Treatment Manual. In that section, paragraph (b) sets out the process for adding, revising, or removing treatment schedules when there is an immediate need to make a change. The circumstances in which an immediate need exists are described in § 305.3(b)(1). They are:

¹ The PPQ Treatment Manual is available on the Internet at http://www.aphis.usda.gov/import_export/plants/manuals/ports/downloads/treatment.pdf or by contacting the Animal and Plant Health Inspection Service, Plant Protection and Quarantine, Manuals Unit, 92 Thomas Johnson Drive, Suite 200, Frederick, MD 21702.

• PPQ has determined that an approved treatment schedule is ineffective at neutralizing the targeted plant pest(s).

• PPQ has determined that, in order to neutralize the targeted plant pest(s), the treatment schedule must be administered using a different process than was previously used.

• PPQ has determined that a new treatment schedule is effective, based on efficacy data, and that ongoing trade in a commodity or commodities may be adversely impacted unless the new treatment schedule is approved for use.

• The use of a treatment schedule is no longer authorized by the U.S. Environmental Protection Agency or by any other Federal entity.

In accordance with § 305.3(b), we published a notice ² in the Federal Register on April 23, 2015 (80 FR 22702-22703, Docket No. APHIS-2015-0006), announcing our determination that a revised T102-a hot water treatment schedule is an efficacious phytosanitary treatment for eggs and larvae of Ceratitis capitata and Anastrepha spp. fruit flies in mangoes weighing 651 to 900 grams and that the treatment is effective for these oversized mangoes regardless of their country of origin. This determination was based on evidence presented in a treatment evaluation document (TED) we made available with the notice. The treatment was added to the PPQ Treatment Manual, but was subject to change based on public comment.

² To view the notice, a subsequent correction to that notice, the TED, and the comments we received, go to http://www.regulations.gov/#!docketDetail;D=APHIS-2015-0006.

We solicited comments on the notice for 60 days ending on June 22, 2015. We received six comments by that date. They were from private citizens, exporters, industry groups, and representatives of State and foreign governments. The responses were in favor of the revised treatment schedule to extend the applicability of the treatment to additional mango commodities. Therefore, in accordance with the regulations in § 305.3(b)(3), we are affirming our revision of a hot water treatment schedule for mango to control certain pests, as described in the TED made available with the previous notice. The treatment schedule is numbered T102-a. The treatment schedule will be listed in the PPQ Treatment Manual, which is available as described in footnote 1 of this document.

Authority: 7 U.S.C. 7701-7772 and 7781-7786; 21 U.S.C. 136 and 136a; 7 CFR 2.22, 2.80, and 371.3.

Done in Washington, DC, this 29th day of July 2015.
Kevin Shea,
Administrator, Animal and Plant Health Inspection Service.

[FR Doc. 2015-19084 Filed 8-3-15; 8:45 am]

BILLING CODE 3410-34-P